DEPARTMENT OF HEALTH AND HUMAN SERVICES

Centers for Disease Control and Prevention

[60Day-04-0468]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, or to send comments contact Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Implementation of a Computer-Assisted Telephone Interview (CATI) System for the Pregnancy Risk Assessment Monitoring System (PRAMS)—New—National Center for Chronic Disease Prevention and Health Promotion (NCCDPHP), Centers for Disease Control and Prevention (CDC).

CDC is proposing to contract for the development of a standard Computer-Assisted Telephone Interviewing (CATI) system those PRAMS states can use for collecting telephone interview data. PRAMS is part of the CDC initiative to reduce infant mortality and low birth weight and promote safe motherhood, is a state-specific, population-based risk factor surveillance system of women who have recently delivered a live-born infant. PRAMS is designed to identify and monitor selected maternal experiences and behaviors that occur before and during pregnancy and during the child's early infancy. PRAMS is funded through cooperative agreements between CDC's Division of Reproductive Health (DRH) and participating state and local health departments. In 2004, 29 states and the city of New York are funded by CDC to conduct PRAMS.

A sample of women will be contacted by mail (with telephone follow-up for non-respondents). Approximately 15% of all interviews in each state are conducted by telephone. CDC provides funding for states interested in using CATI technology to develop CATI systems for the telephone interviews. Some states have developed their own CATI systems, while many continue to record telephone interviews on paper. The dual modes used and the variations in CATI systems developed by the states have created data management problems for PRAMS. CDC cleans and weights the state data and provides each state with an analysis dataset. The variations in data files have resulted in backlogs in providing analysis datasets to states. The proposed CATI system will collect telephone interview data in a similar manner and produce consistent file layout across all PRAMS states.

The new CATI system will also simplify the data collection process in the states. As each woman is interviewed by telephone, the interviewer will directly record her responses into the CATI system. For states still recording telephone interviews on paper, the CATI system will eliminate the extra step of keying the survey responses after the interview is completed. In addition, the CATI system will record operational information about successful call attempts which will assist states in contacting women more efficiently. For CDC, receiving telephone interview data in a standardized format will simplify the data cleaning process and allow for provision of analysis datasets to states in a timely manner. The total cost to respondents is $117,250.

Respondents | Number of respondents | Number of responses per respondent | Average burden per response (in hrs) | Total burden hours
Funded PRAMS sites | 30 | 335 | 35/60 | 5863
Total |  |  |  | 5863

Dated: July 27, 2004.
Alvin Hall,
Director, Management Analysis and Services Office, Centers for Disease Control and Prevention.

[FR Doc. 04-17616 Filed 8-2-04; 8:45 am]

BILLING CODE 4163-18-P